NATIONAL ARCHIVES AND RECORDS ADMINISTRATION

36 CFR Part 1228

RIN 3095-AB02

Records Disposition

AGENCY: National Archives and Records Administration (NARA).

ACTION: Proposed rule; correction.

SUMMARY: This document corrects the preamble of a proposed rule published in the Federal Register on July 17, 2001, at 66 FR 37202. The proposed rule would change the records management regulations in Subchapter B to simplify certain records disposition procedures. Inadvertently, a paragraph was omitted from the Supplementary Information section of the preamble that identifies specific issues for which NARA seeks Federal agency comment.

FOR FURTHER INFORMATION CONTACT: Nancy Allard at telephone number 301-713-7360 or fax number 301-713-7270.

Correction

In proposed rule FR Doc. 01-17791, beginning on page 37202 in the issue of July 17, 2001, make the following correction, in the Supplementary Information section. On page 37203 in the 1st column, add at the end of the first full paragraph the following new paragraph:

“The changes proposed in this rulemaking are intended to reduce Federal agency burden in the areas of submitting records disposition manuals to NARA and implementing disposition authorities for records covered by General Records Schedules. We specifically seek agency comment on the clarity of these proposed changes and whether they will indeed provide a benefit to the agencies.”

Dated: July 30, 2001.
Nancy Y. Allard,
NARA Federal Register Liaison.

[FR Doc. 01-19310 Filed 8-1-01; 8:45 am]

BILLING CODE 7515-01-U